DEPARTMENT OF TRANSPORTATION

Federal Aviation Administration

14 CFR Part 39

[Docket No. FAA-2012-0422; Directorate Identifier 2011-NM-177-AD]

RIN 2120-AA64

Airworthiness Directives; Bombardier, Inc. Airplanes

AGENCY: Federal Aviation Administration (FAA), DOT.

ACTION: Notice of proposed rulemaking (NPRM).

SUMMARY: We propose to adopt a new airworthiness directive (AD) for certain Bombardier, Inc. Model DHC-8 airplanes. This proposed AD was prompted by reports that various pushrods had been manufactured with tubes having the incorrect heat treatment. This proposed AD would require replacing the affected pushrod assembly. We are proposing this AD to prevent loss of rudder control, reduced directional control of the airplane on the ground, or a jammed nose landing gear (NLG) door that could prevent the NLG from retracting or extending.

DATES: We must receive comments on this proposed AD by June 15, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Bombardier, Inc., Q-Series Technical Help Desk, 123 Garratt Boulevard, Toronto, Ontario M3K 1Y5, Canada; telephone 416-375-4000; fax 416-375-4539; email thd.qseries@aero.bombardier.com; Internet http://www.bombardier.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Cesar Gomez, Aerospace Engineer, Airframe and Mechanical Systems Branch, ANE-171, FAA, New York Aircraft Certification Office, 1600 Stewart Avenue, Suite 410, Westbury, New York 11590; telephone (516) 228-7318; fax (516) 794-5531.

SUPPLEMENTARY INFORMATION:

Comments Invited

We invite you to send any written relevant data, views, or arguments about this proposed AD. Send your comments to an address listed under the ADDRESSES section. Include “Docket No. FAA-2012-0422; Directorate Identifier 2011-NM-177-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Transport Canada Civil Aviation (TCCA), which is the aviation authority for Canada, has issued Canadian AD CF-2011-31, dated August 15, 2011 (referred to after this as “the MCAI”), to correct an unsafe condition for the specified products. The MCAI states:

It was discovered that various pushrods installed on the DHC-8 Series 100/200/300/400 aeroplanes had been manufactured with tubes having the incorrect heat treatment, using 6061-T4 instead of 6061-T6. The incorrect heat treatment appreciably degrades the strength of these affected pushrods. Failure of these affected pushrods could result in a loss of rudder control, reduced directional control of the aeroplane on the ground or a jammed nose landing gear (NLG) door that could prevent the NLG from retracting or extending.

This [TCCA] directive mandates the replacement of the affected pushrod assembly.

You may obtain further information by examining the MCAI in the AD docket.

Relevant Service Information

Bombardier has issued the following service bulletins. The actions described in this service information are intended to correct the unsafe condition identified in the MCAI.

• Service Bulletin 8-27-99, dated October 10, 2008;

• Service Bulletin 8-27-100, Revision A, dated March 22, 2011;

• Service Bulletin 8-32-156, dated February 26, 2010;

• Service Bulletin 84-27-21, Revision A, dated March 22, 2011;

• Service Bulletin 84-32-28, dated November 27, 2008; and

• Service Bulletin 84-32-75, dated June 1, 2010.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

For certain actions on the same part, the MCAI specified both 3,000 and 6,000 flight-hour compliance times. To reconcile that difference, this proposed AD has a compliance time of 3,000 flight hours after the effective date of the AD, for the action in paragraph (k) of this proposed AD. We have determined this compliance time is necessary to address the identified unsafe condition in a timely manner. This difference has been coordinated with TCCA.

Costs of Compliance

Based on the service information, we estimate that this proposed AD would affect about 171 products of U.S. registry. We also estimate that it would take about 28 work-hours per product to comply with the basic requirements of this proposed AD. The average labor rate is $85 per work-hour. Required parts would cost about $6,504 per product. Where the service information lists required parts costs that are covered under warranty, we have assumed that there will be no charge for these parts. As we do not control warranty coverage for affected parties, some parties may incur costs higher than estimated here. Based on these figures, we estimate the cost of the proposed AD on U.S. operators to be $1,519,164, or $8,884 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Bombardier, Inc.: Docket No. FAA-2012-0422; Directorate Identifier 2011-NM-177-AD.

(a) Comments Due Date

We must receive comments by June 15, 2012.

(b) Affected ADs

None.

(c) Applicability

This AD applies to the Bombardier, Inc. airplanes, certificated in any category, as identified in paragraphs (c)(1) and (c)(2) of this AD.

(1) Model DHC-8-102,-103,-106,-201, -202,-301,-311, and -315 airplanes, serial numbers 413, 443, 450 through 452 inclusive, 456, 458, 462 through 465 inclusive, 467 through 470 inclusive, and 473 through 588 inclusive.

(2) Model DHC-8-400,-401, and -402 airplanes, serial numbers 4001, 4003 through 4006 inclusive, and 4008 through 4197 inclusive.

(d) Subject

Air Transport Association (ATA) of America Code 27: Flight controls; and Code 32: Landing gear.

(e) Reason

This AD was prompted by reports that various pushrods had been manufactured with tubes having the incorrect heat treatment. We are issuing this AD to prevent loss of rudder control, reduced directional control of the airplane on the ground, or a jammed nose landing gear (NLG) door that could prevent the NLG from retracting or extending.

(f) Compliance

You are responsible for having the actions required by this AD performed within the compliance times specified, unless the actions have already been done.

(g) Replace Brake Rudder Control Pushrod—Model DHC-8-100, -200, -300

For Model DHC-8-102,-103,-106,-201, -202,-301,-311, and -315 airplanes, serial numbers 464, 508, 511 through 513 inclusive, and 515 through 588 inclusive: Within 3,000 flight hours after the effective date of this AD, replace the affected brake rudder control pushrod, part number (P/N) 82710274-001, by incorporating Modsum 8Q101334, in accordance with the Accomplishment Instructions of Bombardier Service Bulletin 8-27-100, Revision A, dated March 22, 2011.

(h) Replace NLG Door Pushrod—Model DHC-8-200, -300

For Model DHC-8-201, -202, -301, -311, and -315 airplanes, serial numbers 552 through 588 inclusive: Within 6,000 flight hours after the effective date of this AD, replace nose landing gear door pushrod, P/N 83232012-001, by incorporating Modsum 8Q101335, in accordance with the Accomplishment Instructions of Bombardier Service Bulletin 8-32-156, dated February 26, 2010.

(i) Replace NLG Door Pushrod—Model DHC-8-400

For Model DHC-8-400, -401, and -402 airplanes, serial numbers 4003 through 4005 inclusive, 4009 through 4011 inclusive, 4016, 4017, and 4024 through 4072 inclusive: Within 6,000 flight hours after the effective date of this AD, replace nose landing gear door pushrod, P/N 83232012-001, by incorporating Modsum 4-113457, in accordance with the Accomplishment Instructions of Bombardier Service Bulletin 84-32-28, dated November 27, 2008.

(j) Replace Brake Rudder Control and Rudder Control Pushrods—Model DHC-8-400

For Model DHC-8-400, -401, and -402 airplanes, serial numbers 4001, 4003 through 4006 inclusive, and 4008 through 4072 inclusive: Within 3,000 flight hours after the effective date of this AD, replace brake rudder control pushrod, P/N 82710274-001, and rudder control pushrod, P/N 82710028-003, by incorporating Modsum 4-113455, in accordance with the Accomplishment Instructions of Bombardier Service Bulletin 84-27-21, Revision A, dated March 22, 2011.

(k) Replace Rudder Control Pushrod—Model DHC-8-100, -200, -300

For Model DHC-8-102, -103, -106, -201, -202, -301, -311, and -315 airplanes, serial numbers 413, 443, 450 through 452 inclusive, 456, 458, 462 through 465 inclusive, 467 through 470 inclusive, and 473 through 588 inclusive: Within 3,000 flight hours after the effective date of this AD, replace rudder control pushrod, P/N 82710028-003, by incorporating Modsum 8Q101333, in accordance with the Accomplishment Instructions of Bombardier Service Bulletin 8-27-99, dated October 10, 2008.

(l) Inspect/Replace NLG Landing Gear Door Pushrod

For Model DHC-8-400, -401, and -402 airplanes, serial numbers 4006, 4008, 4012 through 4015 inclusive, 4018 through 4023 inclusive, and 4073 through 4197 inclusive: Within 6,000 flight hours after the effective date of this AD, inspect the lot number of the pushrod, P/N 83232012-001, for the nose landing gear door mechanism, in accordance with Bombardier Service Bulletin 84-32-75, dated June 1, 2010.

(1) If the lot number of the pushrod does not match any of those listed in the table in paragraph 3.B.(2) of Bombardier Service Bulletin 84-32-75, dated June 1, 2010, no further action is required by this paragraph.

(2) If the lot number of the pushrod matches any of those listed in the table in paragraph 3.B.(2) of Bombardier Service Bulletin 84-32-75, dated June 1, 2010, before further flight, replace the pushrod, in accordance with paragraph 3.B., Rectification, of Bombardier Service Bulletin 84-32-75, dated June 1, 2010.

(m) Parts Installation

For Model DHC-8-400, -401, and -402 airplanes, serial numbers 4006, 4008, 4012 through 4015 inclusive, 4018 through 4023 inclusive, and 4073 through 4197 inclusive: As of the effective date of this AD, no person may install a pushrod, P/N 83232012-001, with the lot number listed in the table in paragraph 3.B.(2) of Bombardier Service Bulletin 84-32-75, dated June 1, 2010, on any airplane.

(n) Credit for Previous Actions

This paragraph provides credit for the actions required by paragraphs (g) and (j) of this AD, if those actions were performed before the effective date of this AD using the service bulletins identified in paragraph (n)(1) or (n)(2) of this AD.

(1) Bombardier Service Bulletin 8-27-100, dated October 10, 2008 (for paragraph (g) of this AD).

(2) Bombardier Service Bulletin 84-27-21, dated October 10, 2008 (for paragraph (j) of this AD).

(o) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(p) Related Information

Refer to MCAI Canadian AD CF-2011-31, dated August 15, 2011, and the Bombardier service bulletins identified in paragraphs (p)(1) through (p)(6) of this AD, for related information.

(1) Bombardier Service Bulletin 8-27-99, dated October 10, 2008.

(2) Bombardier Service Bulletin 8-27-100, Revision A, dated March 22, 2011.

(3) Bombardier Service Bulletin 8-32-156, dated February 26, 2010.

(4) Bombardier Service Bulletin 84-27-21, Revision A, dated March 22, 2011.

(5) Bombardier Service Bulletin 84-32-28, dated November 27, 2008.

(6) Bombardier Service Bulletin 84-32-75, dated June 1, 2010.

Issued in Renton, Washington, on April 24, 2012.
Michael Kaszycki,
Acting Manager, Transport Airplane Directorate, Aircraft Certification Service.

[FR Doc. 2012-10483 Filed 4-30-12; 8:45 am]

BILLING CODE 4910-13-P